DEPARTMENT OF THE INTERIOR

National Park Service

[N6824; NPS-WASO-NAGPRA-NPS0041685; PPWOCRADN0-PCU00RP14.R50000]

Notice of Inventory Completion: U.S. Department of Defense, Division of Air Force, Tyndall Air Force Base, Port Saint Joe, FL

AGENCY: National Park Service, Interior.

ACTION: Notice.

SUMMARY: In accordance with the Native American Graves Protection and Repatriation Act (NAGPRA), the U.S. Department of Defense, Division of Air Force, Tyndall Air Force Base (AFB) has completed an inventory of associated funerary objects and has determined that there is a cultural affiliation between the associated funerary objects and Indian Tribes or Native Hawaiian organizations in this notice.

DATES: Repatriation of the associated funerary objects in this notice may occur on or after February 6, 2026.

ADDRESSES: Send written requests for repatriation of the associated funerary objects in this notice to Jose Cintron, Tyndall AFB, 102 Checkertail Way, Building 36234, Port Saint Joe, FL 32403-5014, email jose.cintron.1@us.af.mil.

SUPPLEMENTARY INFORMATION: This notice is published as part of the National Park Service's administrative responsibilities under NAGPRA. The determinations in this notice are the sole responsibility of the Tyndall AFB, and additional information on the determinations in this notice, including the results of consultation, can be found in its inventory or related records. The National Park Service is not responsible for the determinations in this notice.

Abstract of Information Available

The 92 associated funerary objects are Santa Rosa/Swift Creek type ceramics, Weeden Island type ceramics, Deptford type ceramics, faunal bone, and ochre. These cultural items are reasonably believed to be funerary objects associated with ancestors previously published in a Notice of Inventory Completion in the Federal Register on February 28, 2024 (89 FR 14717) and a Notice of Intended Disposition (2017-0103). The first set of associated funerary items are believed to be removed from a mound near Davis Point Mound (either 8BY007 or 8BY009) on Tyndall AFB. Additional funerary items from nearby cemetery sites—Baker's Landing (8BY029) and Hare Hammock (8BY030/031)—were also part of this holding and are reasonably believed to be associated as well. The associated funerary items were presumably removed from federal property by an anonymous individual prior to the construction of the Pelican Point Golf Course sometime in the 1950s or 1960s and transferred to Tyndall AFB from the National Park Service (NPS) Southeast Archaeeological Center (SEAC) in July 2024. The second set of associated funerary items were removed from the Hole 8 site (8BY165) by Florida State University in 1979, transferred to NPS SEAC, and subsequently transferred to Tyndall AFB.

Cultural Affiliation

Based on the information available and the results of consultation, cultural affiliation is clearly identified by the information available about the associated funerary objects described in this notice.

Determinations

The Tyndall AFB has determined that:

• The 92 objects described in this notice are reasonably believed to have been placed intentionally with or near individual human remains at the time of death or later as part of the death rite or ceremony.

• There is a connection between the associated funerary objects described in this notice and the Miccosukee Tribe of Indians; Mississippi Band of Choctaw Indians; Poarch Band of Creek Indians; Seminole Tribe of Florida; The Choctaw Nation of Oklahoma; The Muscogee (Creek) Nation; The Seminole Nation of Oklahoma; and the Thlopthlocco Tribal Town.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after February 6, 2026. If competing requests for repatriation are received, the Tyndall AFB must determine the most appropriate requestor prior to repatriation. Requests for joint repatriation of the associated funerary objects are considered a single request and not competing requests. The Tyndall AFB is responsible for sending a copy of this notice to the Indian Tribes and Native Hawaiian organizations identified in this notice.

Authority: Native American Graves Protection and Repatriation Act, 25 U.S.C. 3003, and the implementing regulations, 43 CFR 10.10.

Dated: December 18, 2025.
Melanie O'Brien,
Manager, National NAGPRA Program.

[FR Doc. 2026-00055 Filed 1-6-26; 8:45 am]

BILLING CODE 4312-52-P